DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Fall 2016 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the spring 2016 agenda. The purpose of the agenda is to provide information to the public on regulations that are currently under review, being proposed, or issued by Commerce. The agenda is intended to facilitate comments and views by interested members of the public.

Commerce's fall 2016 regulatory agenda includes regulatory activities that are expected to be conducted during the period November 1, 2016, through October 31, 2017.

FOR FURTHER INFORMATION CONTACT:

Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its fall 2016 Unified Agenda of Federal Regulatory and Deregulatory Actions pursuant to Executive Order 12866 and the Regulatory Flexibility Act, 5 U.S.C. 601 et seq. Executive Order 12866 requires agencies to publish an agenda of those regulations that are under consideration pursuant to this order. By memorandum of July 27, 2016, the Office of Management and Budget issued guidelines and procedures for the preparation and publication of the fall 2016 Unified Agenda. The Regulatory Flexibility Act requires agencies to publish, in the spring and fall of each year, a regulatory flexibility agenda that contains a brief description of the subject of any rule likely to have a significant economic impact on a substantial number of small entities, and a list that identifies those entries that have been selected for periodic review under section 610 of the Regulatory Flexibility Act.

In this edition of Commerce's regulatory agenda, a list of the most important significant regulatory actions and a Statement of Regulatory Priorities are included in the Regulatory Plan, which appears in both the online Unified Agenda and in part II of the issue of the Federal Register that includes the Unified Agenda.

In addition, beginning with the fall 2007 edition, the Internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the Internet. In addition, for fall editions of the Agenda, Commerce's entire Regulatory Plan will continue to be printed in the Federal Register.

Within Commerce, the Office of the Secretary and various operating units may issue regulations. Among these operating units, the National Oceanic and Atmospheric Administration (NOAA), the Bureau of Industry and Security, and the Patent and Trademark Office, issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare Fishery Management Plans (FMPs) for the fisheries within their respective areas. Regulations implementing these FMPs regulate domestic fishing and foreign fishing where permitted. Foreign fishing may be conducted in a fishery in which there is no FMP only if a preliminary fishery management plan has been issued to govern that foreign fishing. In the development of FMPs, or amendments to FMPs, and their implementing regulations, the Councils are required by law to conduct public hearings on the draft plans and to consider the use of alternative means of regulating.

The Council process for developing FMPs and amendments makes it difficult for NMFS to determine the significance and timing of some regulatory actions under consideration by the Councils at the time the semiannual regulatory agenda is published.

Commerce's fall 2016 regulatory agenda follows.

Kelly R. Welsh,
General Counsel.

Bureau of the Census—Final Rule Stage
Sequence No. | Title | Regulation Identifier No.
192 | Foreign Trade Regulations (15 CFR 30): Clarification on Filing Requirements | 0607-AA55

National Oceanic and Atmospheric Administration—Proposed Rule Stage
Sequence No. | Title | Regulation Identifier No.
193 | Amendment 5b to the Highly Migratory Species Fishery Management Plan | 0648-BD22
194 | Implementation of a Program for Transshipments by Large Scale Fishing Vessels in the Eastern Pacific Ocean | 0648-BD59
195 | Omnibus Acceptable Biological Catch Framework Adjustment | 0648-BE65
196 | Modification of the Temperature-Dependent Component of the Pacific Sardine Harvest Guideline Control Rule to Incorporate New Scientific Information | 0648-BE77
197 | Amendment 18 to the Northeast Multispecies Fishery Management Plan (Section 610 Review) | 0648-BF26
198 | Omnibus Essential Fish Habitat Amendment 2 | 0648-BF82
199 | Amendment 43 to the Fishery Management Plan for the Reef Fish Resources of the Gulf of Mexico | 0648-BG18
200 | Amendment 45 to the Fishery Management Plan for the Reef Fish Resources of the Gulf of Mexico | 0648-BG19
201 | Protected Species Hard Caps for the California/Oregon Large-Mesh Drift Gillnet Fishery | 0648-BG23
202 | Mallows Bay-Potomac National Marine Sanctuary Designation | 0648-BG02

National Oceanic and Atmospheric Administration—Final Rule Stage
Sequence No. | Title | Regulation Identifier No.
203 | Amendment 39 to the Fishery Management Plan for the Reef Fish Resources of the Gulf of Mexico | 0648-BD25
204 | Regulatory Amendment 16 to the Fishery Management Plan for the Snapper-Grouper Fishery of the South Atlantic Region | 0648-BD78
205 | Pacific Coast Groundfish Fishing Capacity Reduction Loan Refinance (Section 610 Review) | 0648-BE90
206 | Magnuson-Stevens Fisheries Conservation and Management Act; Seafood Import Monitoring Program (Reg Plan Seq No. 16) | 0648-BF09
207 | Pacific Coast Groundfish Trawl Rationalization Program; Widow Rockfish Reallocation in the Individual Fishing Quota Fishery | 0648-BF12
208 | Allow the Use of Longline Pot Gear in the Gulf of Alaska Sablefish Individual Fishing Quota Fishery | 0648-BF42
209 | Atlantic Highly Migratory Species; Atlantic Blacknose Shark Commercial Retention Limit | 0648-BF49
210 | Amendment 113 to the FMP for Groundfish of the BSAI to Establish a Catcher Vessel Fishing Period and Shoreside Processing Delivery Requirements for Aleutian Islands Pacific Cod | 0648-BF54
211 | Specification of Management Measures for Atlantic Herring for the 2016-2018 Fishing Years | 0648-BF64
212 | Amendment 19 to the Atlantic Sea Scallop Fishery Management Plan | 0648-BF72
213 | Observer Coverage Requirements for Catcher Vessels Using Trawl Gear in the Bering Sea and Aleutian Islands Management Area | 0648-BF80
214 | Framework Amendment 1 to the Dolphin and Wahoo Fishery Management Plan of the Atlantic | 0648-BF81
215 | Amendment 103 to the Fishery Management Plan for Groundfish of the Gulf of Alaska to Reapportion Chinook Salmon Prohibited Catch in the Gulf of Alaska Trawl Fisheries | 0648-BF84
216 | Framework Action to Adjust the Red Grouper Allowable Harvest in the Gulf of Mexico | 0648-BG12
217 | Reducing Disturbances to Hawaiian Spinner Dolphins From Human Interactions | 0648-AU02
218 | Designation of Critical Habitat for the Gulf of Maine, New York Bight, and Chesapeake Bay Distinct Population Segments of Atlantic Sturgeon (Reg Plan Seq No. 17) | 0648-BF28
219 | Designation of Critical Habitat for the Carolina and South Atlantic Distinct Population Segments of Atlantic Sturgeon (Reg Plan Seq No. 18) | 0648-BF32
References in boldface appear in The Regulatory Plan in part II of this issue of the Federal Register.

National Oceanic and Atmospheric Administration—Long-Term Actions
Sequence No. | Title | Regulation Identifier No.
220 | Comprehensive Fishery Management Plan for Puerto Rico | 0648-BD32
221 | Comprehensive Fishery Management Plan for St. Croix | 0648-BD33
222 | Comprehensive Fishery Management Plan for St. Thomas/St. John | 0648-BD34
223 | Reductions in Fishing Capacity for Lobster Management Areas 2 and 3 | 0648-BF01
224 | Designate Critical Habitat for the Hawaiian Insular False Killer Whale Distinct Population Segment | 0648-BC45
225 | Designation of Critical Habitat for the Arctic Ringed Seal | 0648-BC56

National Oceanic and Atmospheric Administration—Completed Actions
Sequence No. | Title | Regulation Identifier No.
226 | Requirements for Importation of Fish and Fish Products Under the U.S. Marine Mammal Protection Act | 0648-AY15
227 | Amendment 7 to the 2006 Consolidated Highly Migratory Species Fishery Management Plan | 0648-BC09
228 | Amendment 28 to the Fishery Management Plan for the Reef Fish Resources of the Gulf of Mexico | 0648-BD68
229 | Amendment 35 to the Fishery Management Plan for the Snapper Grouper Fishery of the South Atlantic Region | 0648-BE70
230 | Amendment 109 to the Fishery Management Plan for Groundfish of the BSAI to Facilitate Development of Groundfish Fisheries for Small Vessels in the Western Alaska Community Development Quota Program | 0648-BF05
231 | Process for Divestiture of Excess Quota Shares | 0648-BF11
232 | Implementation of Salmon Bycatch Management Measures for the Bering Sea Pollock Fishery | 0648-BF25
233 | Cost Recovery Authorized Payment Methods | 0648-BF35
234 | Amendment 102 to the Fishery Management Plan for Groundfish of the Gulf of Alaska | 0648-BF36
235 | 2016-2018 Specifications and Management Measures for the Atlantic Mackerel, Squid, and Butterfish Fishery Management Plan | 0648-BF53
236 | Framework Adjustment 27 to the Atlantic Sea Scallop Fishery Management Plan | 0648-BF59
237 | Revisions to the Pacific Halibut Catch Sharing Plan, Codified Regulations, and Annual Management Measures for 2016 and Beyond | 0648-BF60
238 | Regulatory Amendment 25 to the Fishery Management Plan for the Snapper-Grouper Fishery of the South Atlantic Region | 0648-BF61
239 | Amendment 17A to the Fishery Management Plan for the Shrimp Fishery of the Gulf of Mexico, U.S. Waters | 0648-BF77
240 | Framework Adjustment 3 to the Northeast Skate Complex Fishery Management Plan | 0648-BF87
241 | 2016-2018 Spiny Dogfish Fishery Specifications | 0648-BF88

Patent and Trademark Office—Proposed Rule Stage
Sequence No. | Title | Regulation Identifier No.
242 | Setting and Adjusting Patent Fees During Fiscal Year 2017 | 0651-AD02

DEPARTMENT OF COMMERCE (DOC)

Bureau of the Census (CENSUS)

Final Rule Stage

192. Foreign Trade Regulations (15 CFR 30): Clarification on Filing Requirements

Legal Authority: 13 U.S.C. 301

Abstract: The Census Bureau is proposing to amend its regulations to reflect new export reporting requirements related to the implementation of the International Trade Data System (ITDS), in accordance with the Executive Order 13659, Streamlining the Export/Import Process for American Businesses. The ITDS was established by the Security and Accountability for Every (SAFE) Port Act of 2006. The proposed changes also include the addition of a new data element in the Automated Export System (AES), the original Internal Transaction Number (ITN) field. Lastly, the Census Bureau proposes to make changes to the Foreign Trade Regulations (FTR) to provide clarity on existing reporting requirements.

Timetable:

Action | Date | FR Cite
NPRM | 03/09/16 | 81 FR 12423
NPRM Comment Period End | 05/09/16
Final Rule | 12/00/16

Regulatory Flexibility Analysis Required: Yes.

Agency Contact: Dale Kelly, Department of Commerce, Bureau of the Census, 4700 Silver Hill Road, Room 6K1285, Suitland, MD 20233, Phone: 301 763-6937, Email: dale.c.kelly@census.gov.

RIN: 0607-AA55

DEPARTMENT OF COMMERCE (DOC)

National Oceanic and Atmospheric Administration (NOAA)

Proposed Rule Stage

National Marine Fisheries Service

193. Amendment 5B to the Highly Migratory Species Fishery Management Plan

Legal Authority: 16 U.S.C. 1801 et seq.; 16 U.S.C. 971 et seq.

Abstract: This rulemaking would propose management measures for dusky sharks based on the latest stock assessment, taking into consideration comments received on the proposed rule and Amendment 5 to the 2006 Consolidated Highly Migratory Species Fishery Management Plan. This rulemaking considers a range of commercial and recreational management measures in both directed and incidental shark fisheries including, among other things, gear modifications, time/area closures, permitting, shark identification requirements, and reporting requirements. The National Marine Fisheries Service determined dusky sharks are still overfished and still experiencing overfishing. The National Marine Fisheries Service originally proposed management measures to end overfishing and rebuild dusky sharks in a proposed rule for Draft Amendment 5 to the 2006 Consolidated Atlantic Highly Migratory Species Fishery Management Plan. That proposed rule also contained management measures for scalloped hammerhead, sandbar, blacknose and Gulf of Mexico blacktip sharks. The National Marine Fisheries Service decided to move forward with Draft Amendment 5's management measures for scalloped hammerhead, sandbar, blacknose and Gulf of Mexico blacktip sharks in a final rule and final amendment that will now be referred to as “Amendment 5a” to the 2006 Consolidated Atlantic Highly Migratory Species Fishery Management Plan. Dusky shark management measures will be addressed in this separate, but related, action and will be referred to as “Amendment 5b.”

Timetable:

Action | Date | FR Cite
NPRM | 11/00/16

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BD22

194. Implementation of a Program for Transshipments by Large Scale Fishing Vessels in the Eastern Pacific Ocean

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: Criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. This rule is necessary for the United States to satisfy its international obligations under the 1949 Convention for the Establishment of an Inter-American Tropical Tuna, to which it is a Contracting Party.

Timetable:

Action | Date | FR Cite
NPRM | 11/00/16

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BD59

195. Omnibus Acceptable Biological Catch Framework Adjustment

Legal Authority: 16 U.S.C. 1801 et seq.

Abstract: This action would make two administrative adjustments to the Mid-Atlantic Fishery Management Council's (Council) Omnibus Annual Catch Limit Amendment: (1) Adjust the Council's risk policy so that the Scientific and Statistical Committee may apply an average probability of overfishing when recommending multi-year Acceptable Biological Catches; and (2) make all of the Council's fishery management plans consistent in allowing new status determination criteria (overfishing definitions, etc.) to be accepted as the best available scientific information.

Timetable:

Action | Date | FR Cite
NPRM | 11/00/16

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE65

196. Modification of the Temperature-Dependent Component of the Pacific Sardine Harvest Guideline Control Rule To Incorporate New Scientific Information

Legal Authority: 16 U.S.C. 1801 et seq.

Abstract: Pursuant to a recommendation of the Pacific Fishery Management Council (Council) under the Magnuson-Stevens Act, the National Marine Fisheries Service is proposing to use a new temperature index to calculate the temperature parameter of the Pacific sardine harvest guideline control rule under the Fishery Management Plan. The harvest guideline control rule, in conjunction with the overfishing limit and acceptable biological catch control rules, is used to set annual harvest levels for Pacific sardine. The temperature parameter is calculated annually. The National Marine Fisheries Service determined that a new temperature index is more statistically sound and this action will adopt that index. This action also will revise the upper temperature limit to allow for additional sardine harvest where prior guidelines set catch unnecessarily low.

Timetable:

Action | Date | FR Cite
NPRM | 11/00/16

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BE77

197. Amendment 18 to the Northeast Multispecies Fishery Management Plan (Section 610 Review)

Legal Authority: 16 U.S.C. 1801 et seq.

Abstract: Amendment 18 to the Northeast Multispecies Fishery Management Plan would make necessary minor administrative adjustments to several groundfish sectors, as well as minor adjustments to fishing activity designed to protect fishery resources while maximizing flexibility and efficiency. Specifically, it would include the following management measures: Creating an accumulation limit for either the holdings of Potential Sector Contribution or of Northeast multispecies permits; creating a sub-annual catch limit that Handgear A permits could enroll in and other measures pertaining to fishing with Handgear A permits; adjusting what fishery data are considered confidential, specifically the price of annual catch entitlement transferred within a sector or leased between sectors; establishing an inshore/offshore boundary within the Gulf of Maine with associated measures, including creation of a Gulf of Maine cod sub-annual catch limit, adjusting the Gulf of Maine Gear Restricted Area boundary to align with the inshore/offshore boundary, and creating declaration time periods for fishing in the inshore or offshore areas; and establishing a Redfish Exemption Area, in which vessels could fish with a smaller mesh net than the standard mesh size, targeting redfish.

Timetable:

Action | Date | FR Cite
NPRM | 11/00/16

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF26

198. Omnibus Essential Fish Habitat Amendment 2

Legal Authority: 16 U.S.C. 1801 et seq.

Abstract: The New England Fishery Management Council voted to issue this update rulemaking that would revise the essential fish habitat and habitat areas of particular concern designation based on recent groundfish data. This rule would update groundfish seasonal spawning closures and identify Habitat Research Areas. The proposed revisions include adding a habitat management area in the eastern Gulf of Maine and modifying the existing habitat management areas in the central and western Gulf of Maine, while maintaining additional protections for large-mesh groundfish, including cod. In addition, the amendment would allow for the potential for development of a scallop access area within Georges Bank. A habitat management area would be established on Georges Shoal, with allowances for the clam dredge fishery. In Southern New England, a habitat management area in the Great South Channel would replace the current habitat protections further west. These revisions are intended to comply with the Magnuson-Stevens Act requirement to minimize to the extent practicable the adverse effects of fishing on essential fish habitat.

Timetable:

Action | Date | FR Cite
NPRM | 11/00/16

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF82

199. • Amendment 43 to the Fishery Management Plan for the Reef Fish Resources of the Gulf of Mexico

Legal Authority: 16 U.S.C. 1801 et seq.

Abstract: Based on a recent stock assessment and per the Magnuson-Stevens Fishery Conservation and Management Act, action is needed to adjust management measures for the Gulf of Mexico (Gulf) hogfish stock to prevent overfishing and achieve optimum yield. Consistent with the stock assessment, this action would redefine the geographic range of the Gulf hogfish stock, set the status determination criteria, and set the annual catch limits. This action would also revise the hogfish minimum size limit to reduce the likelihood of a season closure due to the annual catch limit being reached and remove the provision in the regulations that exempts hogfish from the prohibition on the use of powerheads to take Gulf reef fish in the Gulf stressed area.

Timetable:

Action | Date | FR Cite
NPRM | 11/00/16

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG18

200. • Amendment 45 to the Fishery Management Plan for the Reef Fish Resources of the Gulf of Mexico

Legal Authority: 16 U.S.C. 1801 et seq.

Abstract: The Gulf of Mexico Fishery Management Council is working to develop and implement separate federal for-hire and private angling components for red snapper management measures to better prevent overfishing while achieving the optimum yield. Amendment 40 defined the components, allocated the recreational red snapper quota between the components, and established a three-year sunset provision for the components. The purpose of this action is to extend the sector separation sunset provision established in Amendment 40 for five additional years to allow completion of component-focused management strategies.

Timetable:

Action | Date | FR Cite
Notice of Availability | 08/25/16 | 81 FR 58466
NPRM | 11/00/16

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG19

201. • Protected Species Hard Caps for the California/Oregon Large-Mesh Drift Gillnet Fishery

Legal Authority: 16 U.S.C. 1801 et seq.

Abstract: The National Marine Fisheries Service intends to establish two-year rolling hard caps (i.e., limits) on the numbers of certain marine mammals and sea turtles observed killed or injured in the California/Oregon large-mesh drift gillnet fishery. The caps would be established for five marine mammal species and four sea turtle species. When any of the caps are reached or exceeded, the fishery would close for the rest of the fishing season and possibly through the following season. This measure was recommended by the Pacific Fishery Management Council in September 2015.

Timetable:

Action | Date | FR Cite
NPRM | 11/00/16

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BG23

NOS/ONMS

202. • Mallows Bay-Potomac National Marine Sanctuary Designation

Legal Authority: 16 U.S.C. 1431 et seq.

Abstract: On September 16, 2014, pursuant to section 304 of the National Marine Sanctuaries Act (NMSA) and the Sanctuary Nomination Process (79 FR 33851), a coalition of community groups submitted a nomination asking NOAA to designate Mallows Bay-Potomac River as a national marine sanctuary. The Mallows Bay area of the tidal Potomac River being considered for designation as a national marine sanctuary is an area 40 miles south of Washington, DC, off the Nanjemoy Peninsula of Charles County, MD. The designation of a national marine sanctuary would focus on conserving the collection of maritime heritage resources (shipwrecks) in the area as well as expand the opportunities for public access, recreation, tourism, research, and education. NOAA completed its review of the nomination in accordance with the Sanctuary Nomination Process and on January 12, 2015, added the area to the inventory of nominations that are eligible for designation. On October 7, 2015, NOAA issued a notice of intent to begin the designation process and asked for public comment on making this area a national marine sanctuary. Designation under the NMSA would allow NOAA to supplement and complement work by the State of Maryland and other federal agencies to protect this collection of nationally significant shipwrecks.

Timetable:

Action | Date | FR Cite
NPRM | 04/00/17

Regulatory Flexibility Analysis Required: Yes.

Agency Contact: Annie Sawabini, Department of Commerce, National Oceanic and Atmospheric Administration, 1305 East-West Highway, Silver Spring, MD 20910, Phone: 240 533-0658.

RIN: 0648-BG02

DEPARTMENT OF COMMERCE (DOC)

National Oceanic and Atmospheric Administration (NOAA)

Final Rule Stage

National Marine Fisheries Service

203. Amendment 39 to the Fishery Management Plan for the Reef Fish Resources of the Gulf of Mexico

Legal Authority: 16 U.S.C. 1801 et seq.

Abstract: The purpose of this action is to facilitate management of the recreational red snapper component in the reef fish fishery by reorganizing the federal fishery management strategy to better account for biological, social, and economic differences among the regions of the Gulf of Mexico. Regional management would enable regions and their associated communities to specify the optimal management parameters that best meet the needs of their local constituents thereby addressing regional socio-economic concerns.

Timetable:

Action | Date | FR Cite
Notice | 05/13/13 | 78 FR 27956
Next Stage Undetermined | 02/00/17

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD25

204. Regulatory Amendment 16 to the Fishery Management Plan for the Snapper-Grouper Fishery of the South Atlantic Region

Legal Authority: 16 U.S.C. 1801 et seq.

Abstract: Regulatory Amendment 16 contained an action to address the prohibition on the use of black sea bass pots annually from November 1 through April 30 that was implemented through Regulatory Amendment 19. The prohibition was a precautionary measure to prevent interactions between black sea bass pot gear and whales listed under the Endangered Species Act during large whale migrations and the right whale calving season off the southeastern coast. The South Atlantic Fishery Management Council, through Regulatory Amendment 16, removed the closure, changed the length of the closure, and changed the area of the closure. The goal was to minimize adverse socio-economic impacts to black sea bass pot endorsement holders while maintaining protection for Endangered Species Act-listed whales in the South Atlantic region.

Timetable:

Action | Date | FR Cite
NPRM | 08/11/16 | 81 FR 53109
NPRM Comment Period End | 09/12/16 |
Final Action | 11/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD78

205. Pacific Coast Groundfish Fishing Capacity Reduction Loan Refinance (Section 610 Review)

Legal Authority: 16 U.S.C. 1801 et seq.; 16 U.S.C. 1861 et seq.; 5 U.S.C. 561 et seq.

Abstract: The National Marine Fisheries Service issued proposed regulations to refinance the voluntary fishing capacity reduction loan program implemented in 2004 in the Pacific Coast groundfish Federal limited-entry trawl, Washington coastal Dungeness crab, and California pink shrimp fisheries (collectively known hereafter as the refinanced reduction fisheries). The refinance loan of up to $30 million could establish a new industry fee system for future landings of the refinanced reduction fisheries. Upon publishing a final rule and receipt of an appropriation, the National Marine Fisheries Service would conduct three referenda to refinance the existing debt obligation in each of the refinanced reduction fisheries. If a referendum in one, two, or all three of the fisheries is successful, that fishery's current loan will be repaid in full and a new loan in the amount of the principal and interest balance as of the date of funding will be issued. The terms were prescribed in the 2015 National Defense Authorization Act and include a 45-year term to maturity, interest charged at a current Treasury interest rate, and a maximum repayment fee of 3 percent of ex-vessel value.

Timetable:

Action | Date | FR Cite
NPRM | 08/07/15 | 80 FR 46941
NPRM Comment Period End | 09/08/15 |
Final Action | 12/00/16 |

Regulatory Flexibility Analysis Required: Yes.

Agency Contact: Brian Pawlak, Department of Commerce, National Oceanic and Atmospheric Administration, 1315 East-West Highway, Silver Spring, MD 20910, Phone: 301 427-8621, Email: brian.t.pawlak@noaa.gov.

RIN: 0648-BE90

206. Magnuson-Stevens Fisheries Conservation and Management Act; Seafood Import Monitoring Program

Regulatory Plan: This entry is Seq. No. 16 in part II of this issue of the Federal Register.

RIN: 0648-BF09

207. Pacific Coast Groundfish Trawl Rationalization Program; Widow Rockfish Reallocation in the Individual Fishing Quota Fishery

Legal Authority: 16 U.S.C. 1801 et seq.

Abstract: In January 2011, the National Marine Fisheries Service implemented the groundfish trawl rationalization program (a catch share program) for the Pacific coast groundfish limited entry trawl fishery. The program was implemented through Amendments 20 and 21 to the Pacific Coast Groundfish Fishery Management Plan and the corresponding implementing regulations. Amendment 20 established the trawl rationalization program, which includes an Individual Fishing Quota program for limited entry trawl participants, and Amendment 21 established fixed allocations for limited entry trawl participants. During implementation of the trawl individual fishing quota program, widow rockfish was overfished and the initial allocations were based on its overfished status and management as a non-target species. The National Marine Fisheries Service declared the widow rockfish rebuilt in 2011 and, accordingly, the Pacific Fishery Management Council has now recommended actions to manage the increased abundance of widow rockfish. The action would reallocate individual fishing quota widow rockfish quota share to facilitate directed harvest and would lift the moratorium on widow rockfish quota share trading.

Timetable:

Action | Date | FR Cite
NPRM | 06/29/16 | 81 FR 42295
NPRM Comment Period End | 07/29/16 |
Final Action | 11/00/16 |

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BF12

208. Allow the Use of Longline Pot Gear in the Gulf of Alaska Sablefish Individual Fishing Quota Fishery

Legal Authority: 16 U.S.C. 1801 et seq.; 16 U.S.C. 773 et seq.

Abstract: This action would amend Federal regulations to allow fishermen to use longline pot gear to harvest sablefish in the Gulf of Alaska Individual Fishing Quota fishery. Hook-and-line gear is currently the only authorized gear type in the sablefish Individual Fishing Quota fishery. The action would authorize Individual Fishing Quota fishermen to use either longline pot gear or hook-and-line gear in the sablefish Individual Fishing Quota fishery. Some fishermen would like to use longline pot gear because it is less prone to whale interactions than hook-and-line gear. Whales can remove sablefish from hook-and-line gear, which reduces fishing efficiency and increases costs for sablefish Individual Fishing Quota fishermen because the whale interactions damage hook-and-line gear and reduce sablefish catch rates. However, whales cannot remove sablefish from longline pot gear, and the action to authorize longline pot gear in the sablefish Individual Fishing Quota fishery is intended to reduce fishery interactions with whales and reduce the negative impacts of whale interactions on the sablefish Individual Fishing Quota fleet. The action would establish management measures to minimize conflicts between hook-and-line and longline pot gear on the fishing grounds and to prevent significant consolidation of sablefish Individual Fishing Quota onto fewer vessels.

Timetable:

Action | Date | FR Cite
Notice of Availability | 08/08/16 | 81 FR 52394
NPRM | 08/19/16 | 81 FR 55408
NPRM Comment Period End | 09/19/16 |
Final Action | 11/00/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF42

209. Atlantic Highly Migratory Species; Atlantic Blacknose Shark Commercial Retention Limit

Legal Authority: 16 U.S.C. 1801 et seq.; 16 U.S.C. 971 et seq.

Abstract: This rule would evaluate the management measures for blacknose sharks in the Atlantic region. It would consider, among other things, a range of commercial management measures in both directed and incidental shark fisheries including, but not limited to, retention limits. In addition, this action would address commercial retention limits to help prevent early closures of the non-blacknose small coastal shark management group and fully utilize the quota.

Timetable:

Action | Date | FR Cite
NPRM | 08/03/16 | 81 FR 51165
NPRM Comment Period End | 09/20/16 |
Final Action | 12/00/16 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BF49

210. Amendment 113 to the FMP for Groundfish of the BSAI To Establish a Catcher Vessel Fishing Period and Shoreside Processing Delivery Requirements for Aleutian Islands Pacific Cod

Legal Authority: 16 U.S.C. 1801 et seq.

Abstract: This rule would restrict participation in the Aleutian Islands Pacific cod fishery. This action is necessary to provide stability to catcher vessels that participate in the Aleutian Islands Pacific cod fishery and the shoreside processors to which they deliver, and to the communities in which these processors are located. Specifically, this rule would establish catch limits for Pacific cod in the Aleutian Islands and the Bering Sea. The revised allocation is intended to provide catcher vessels with a sufficient opportunity to harvest Pacific cod in an inshore fishery by restricting participation in the fisheries by catcher processors that can harvest significantly larger volumes of Pacific cod further offshore. This rule may include provisions to relieve the restrictions on catcher processor participation if catcher vessels would not be able to harvest the allocation or Aleutian Islands shoreside processors would not be able to process catcher vessel harvests of Pacific cod.

Timetable:

Action | Date | FR Cite
Notice of Availability | 07/19/16 | 81 FR 46883
NPRM | 08/01/16 | 81 FR 50444
NPRM Comment Period End | 08/31/16 |
Final Action | 11/00/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF54

211. Specification of Management Measures for Atlantic Herring for the 2016-2018 Fishing Years

Legal Authority: 16 U.S.C. 1801 et seq.

Abstract: The Atlantic herring fishery specifications are annual catch amounts for the 2016-2018 fishing years, January-December. These specifications are required by regulation to be set for 3 years. If implemented, these specifications will change the current catch limit levels and will continue to prevent overfishing of the herring resource and achieve optimum yield. The catch limits established in these specifications set a constant catch amount available to the industry that provides a stable allowable catch for 3-year business planning purposes. In addition, the specifications add catch that was not caught under last year's catch limit for one management area and reduce catch that exceeded the catch limits set in other management areas. Finally, the specifications set annual gear-specific and area-specific catch caps for river herring and shad, consistent with Framework Adjustment 3 to the Atlantic Herring Fishery Management Plan.

Timetable:

Action | Date | FR Cite
NPRM | 06/21/16 | 81 FR 40253
NPRM Comment Period End | 07/21/16 |
Final Action | 11/00/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF64

212. Amendment 19 to the Atlantic Sea Scallop Fishery Management Plan

Legal Authority: 16 U.S.C. 1801 et seq.

Abstract: Amendment 19 would incorporate a specifications process into the Atlantic Sea Scallop Fishery Management Plan and change the start of the fishing year. Developing specifications to set annual or biennial allocations will allow for a more efficient process for setting annual allocations than currently possible through framework adjustments. By adjusting the start of the scallop fishing year, the National Marine Fisheries Service would be able to implement simple specifications actions at the start of the fishing year on a more consistent basis.

Timetable:

Action | Date | FR Cite
Notice of Availability | 07/20/16 | 81 FR 47152
NPRM | 08/16/16 | 81 FR 54533
NPRM Comment Period End | 09/15/16 |
Final Action | 11/00/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF72

213. Observer Coverage Requirements for Catcher Vessels Using Trawl Gear in the Bering Sea and Aleutian Islands Management Area

Legal Authority: 16 U.S.C. 1801 et seq.

Abstract: This rule would allow the owner of a catcher vessel in the Bering Sea and Aleutian Islands Management Area trawl limited access fisheries to annually choose to have the vessel placed in the full observer coverage category for all fishing in the Bering Sea and Aleutian Islands Management Area in the upcoming year. Under current regulations for the North Pacific Groundfish and Halibut Observer Program, catcher vessels in the Bering Sea and Aleutian Islands Management Area trawl limited access fisheries are assigned to the partial observer coverage category. Vessels in the partial observer coverage category must carry an observer on selected fishing trips, whereas vessels in the full observer coverage category must carry an observer for all of their fishing activity. Owners of trawl catcher vessels have requested to be allowed to voluntarily choose full coverage to obtain observer data from all of their fishing trips to better manage their halibut prohibited species catch.

Timetable:

Action | Date | FR Cite
NPRM | 07/07/16 | 81 FR 44251
NPRM Comment Period End | 08/08/16 |
Final Action | 11/00/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF80

214. Framework Amendment 1 to the Dolphin and Wahoo Fishery Management Plan of the Atlantic

Legal Authority: 16 U.S.C. 1801 et seq.

Abstract: Dolphin Wahoo 1 would establish a commercial trip limit after a specified percentage of the commercial sector annual catch limit has been reached and would continue until the end of the fishing year or until the entire commercial annual catch limit is met, whichever comes first.

Timetable:

Action | Date | FR Cite
NPRM | 06/30/16 | 81 FR 42625
NPRM Comment Period End | 08/01/16 |
Final Action | 11/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF81

215. Amendment 103 to the Fishery Management Plan for Groundfish of the Gulf of Alaska to Reapportion Chinook Salmon Prohibited Catch in the Gulf Of Alaska Trawl Fisheries

Legal Authority: 16 U.S.C. 1801 et seq.; 16 U.S.C. 3631 et seq.; 16 U.S.C. 773 et seq.; Pub. L. 08-199

Abstract: This action would allow the National Marine Fisheries Service to reapportion unused Chinook salmon prohibited species catch within and between trawl sectors in the Gulf of Alaska groundfish fisheries to reduce the potential for early fishery closures. Amendments 93 and 97 to the Fishery Management Plan for Groundfish of the Gulf of Alaska and implementing regulations established Chinook salmon prohibited species catch limits for pollock and non-pollock trawl fisheries. If a sector reaches a prohibited species catch limit, the fishery is closed for the remainder of the fishing year—currently, the fishery management plan and regulations do not allow NMFS to reapportion unused Chinook salmon prohibited species catch among trawl sectors. Specifically, this action would: Allow the National Marine Fisheries Service to reapportion remaining Chinook salmon prohibited species catch among trawl catcher vessel sectors and from the trawl catcher/processor sector to trawl catcher vessel sectors based on criteria established for inseason reapportionments and within specified limits; increase management flexibility without exceeding the current overall 32,500 Chinook salmon prohibited species catch limit or negating the current prohibited species catch limits under Amendments 93 and 97; and increase the likelihood that groundfish resources are more fully harvested, and minimize the adverse socioeconomic impacts of the fishery closures on harvesters, processors, and communities.

Timetable:

Action | Date | FR Cite
Notice of Availability | 05/26/16 | 81 FR 33456
NPRM | 06/16/16 | 81 FR 39237
NPRM Comment Period End | 07/18/16 |
Final Action | 11/00/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF84

216. • Framework Action To Adjust the Red Grouper Allowable Harvest in the Gulf of Mexico

Legal Authority: 16 U.S.C. 1801 et seq.

Abstract: This Framework Action would adjust the red grouper allowable harvest in the Gulf of Mexico, consistent with the results of a 2015 stock assessment. The commercial annual catch limit and annual catch target would be adjusted from 6.03 million pounds gutted weight and 5.72 million pounds gutted weight, to 8.19 million pounds gutted weight, and 7.78 million pounds gutted weight, respectively. The recreational annual catch limit and annual catch target would be adjusted from 1.9 million pounds gutted weight and 1.73 million pounds gutted weight, to 2.58 million pounds gutted weight, and 2.37 million pounds gutted weight, respectively. These increases in the annual catch limits and annual catch targets will provide more quota to the commercial fisherman and are expected to extend the recreational fishing season, which has been closed in-season in recent years, through the end of the year.

Timetable:

Action | Date | FR Cite
NPRM | 07/26/16 | 81 FR 48728
NPRM Comment Period End | 08/25/16 |
Final Action | 11/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG12

217. Reducing Disturbances to Hawaiian Spinner Dolphins From Human Interactions

Legal Authority: 16 U.S.C. 1361 et seq.

Abstract: This action would implement regulatory measures under the Marine Mammal Protection Act to protect Hawaiian spinner dolphins that are resting in protected bays from take due to close approach interactions with humans.

Timetable:

Action | Date | FR Cite
ANPRM | 12/12/05 | 70 FR 73426
ANPRM Comment Period End | 01/11/06 |
NPRM | 08/24/16 | 81 FR 57854
NPRM Comment Period End | 10/23/16 |
Final Action | 01/00/17 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-AU02

218. Designation of Critical Habitat for the Gulf of Maine, New York Bight, and Chesapeake Bay Distinct Population Segments of Atlantic Sturgeon

Regulatory Plan: This entry is Seq. No. 17 in part II of this issue of the Federal Register.

RIN: 0648-BF28

219. Designation of Critical Habitat for the Carolina and South Atlantic Distinct Population Segments of Atlantic Sturgeon

Regulatory Plan: This entry is Seq. No. 18 in part II of this issue of the Federal Register.

RIN: 0648-BF32

DEPARTMENT OF COMMERCE (DOC)

Long-Term Actions

National Oceanic and Atmospheric Administration (NOAA)

National Marine Fisheries Service

220. Comprehensive Fishery Management Plan for Puerto Rico

Legal Authority: 16 U.S.C. 1801 et seq.

Abstract: This comprehensive Puerto Rico Fishery Management Plan will incorporate, and modify as needed, federal fisheries management measures presently included in each of the existing species-based U.S. Caribbean Fishery Management Plans (Spiny Lobster, Reef Fish, Coral, and Queen Conch Fishery Management Plans) as those measures pertain to Puerto Rico exclusive economic zone waters. The goal of this action is to create a Fishery Management Plan tailored to the specific fishery management needs of Puerto Rico. If approved, this new Puerto Rico Fishery Management Plan, in conjunction with similar comprehensive Fishery Management Plans being developed for St. Croix and St. Thomas/St. John, will replace the Spiny Lobster, Reef Fish, Coral and Queen Conch Fishery Management Plans presently governing the commercial and recreational harvest in U.S. Caribbean exclusive economic zone waters.

Timetable:

Action | Date | FR Cite
NPRM | 04/00/18 |

Regulatory Flexibility Analysis Required: Yes.

Agency Contact: Roy E. Crabtree, Phone: 727 824-5305, Fax: 727 824-5308, Email: roy.crabtree@noaa.gov.

RIN: 0648-BD32

221. Comprehensive Fishery Management Plan for St. Croix

Legal Authority: 16 U.S.C. 1801 et seq.

Abstract: This comprehensive St. Croix Fishery Management Plan will incorporate, and modify as needed, federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. If approved, this new St. Croix Fishery Management Plan, in conjunction with similar comprehensive Fishery Management Plans being developed for Puerto Rico and St. Thomas/St. John, will replace the Spiny Lobster, Reef Fish, Coral and Queen Conch Fishery Management Plans presently governing the commercial and recreational harvest in U.S. Caribbean exclusive economic zone waters.

Timetable:

Action | Date | FR Cite
NPRM | 04/00/18 |

Regulatory Flexibility Analysis Required: Yes.

Agency Contact: Roy E. Crabtree, Phone: 727 824-5305, Fax: 727 824-5308, Email: roy.crabtree@noaa.gov.

RIN: 0648-BD33

222. Comprehensive Fishery Management Plan for St. Thomas/St. John

Legal Authority: 16 U.S.C. 1801 et seq.

Abstract: This comprehensive St. Thomas/St. John Fishery Management Plan will incorporate, and modify as needed, federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. If approved, this new St. Thomas/St. John Fishery Management Plan, in conjunction with similar comprehensive Fishery Management Plans being developed for St. Croix and Puerto Rico, will replace the Spiny Lobster, Reef Fish, Coral and Queen Conch Fishery Management Plans presently governing the commercial and recreational harvest in U.S. Caribbean exclusive economic zone waters.

Timetable:

Action | Date | FR Cite
NPRM | 04/00/18 |

Regulatory Flexibility Analysis Required: Yes.

Agency Contact: Roy E. Crabtree, Phone: 727 824-5305, Fax: 727 824-5308, Email: roy.crabtree@noaa.gov.

RIN: 0648-BD34

223. Reductions in Fishing Capacity for Lobster Management Areas 2 and 3

Legal Authority: 16 U.S.C. 5101 et seq.

Abstract: This action proposes several reductions in fishing capacity for Lobster Management Areas 2 and 3. The proposed measures include: Caps on the number of traps that can be actively fished; caps on the number of traps associated with a permit (i.e., allowing trap banking); and caps on the number of traps or permits issued to a given owner. This action is intended to assist in rebuilding the Southern New England lobster stock.

Timetable:

Action | Date | FR Cite
NPRM | 11/00/17 |

Regulatory Flexibility Analysis Required: Yes.

Agency Contact: John K. Bullard, Phone: 978 281-9287, Email: john.bullard@noaa.gov.

RIN: 0648-BF01

224. Designate Critical Habitat for the Hawaiian Insular False Killer Whale Distinct Population Segment

Legal Authority: 16 U.S.C. 1531 et seq.

Abstract: This action would designate critical habitat for the Hawaiian insular false killer whale distinct population segment, pursuant to section 4 of the Endangered Species Act. Proposed critical habitat would be designated in the main Hawaiian islands.

Timetable:

Action | Date | FR Cite
NPRM | 11/00/18 |

Regulatory Flexibility Analysis Required: Yes.

Agency Contact: Donna Wieting, Phone: 301 427-8400.

RIN: 0648-BC45

225. Designation of Critical Habitat for the Arctic Ringed Seal

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The critical habitat designation would be in the northern Bering, Chukchi, and Beaufort seas within the current range of the species.

Timetable:

Action | Date | FR Cite
NPRM | 12/03/14 | 79 FR 71714
Proposed Rule | 12/09/14 | 79 FR 73010
Notice of Public Hearings | 01/13/15 | 80 FR 1618
Comment Period Extended | 02/02/15 | 80 FR 5498
Final Action | To Be Determined

Regulatory Flexibility Analysis Required: Yes.

Agency Contact: Donna Wieting, Phone: 301 427-8400.

RIN: 0648-BC56

DEPARTMENT OF COMMERCE (DOC)

National Oceanic and Atmospheric Administration (NOAA)

Completed Actions

226. Requirements for Importation of Fish and Fish Products Under the U.S. Marine Mammal Protection Act

Legal Authority: 16 U.S.C. 1371 et seq.

Abstract: With this action, the National Marine Fisheries Service developed procedures to implement the provisions of section 101(a)(2) of the Marine Mammal Protection Act for imports of fish and fish products. Those provisions require the Secretary of the Treasury to ban imports of fish and fish products from fisheries with bycatch of marine mammals in excess of U.S. standards. The provisions further require the Secretary of Commerce to insist on reasonable proof from exporting nations of the effects on marine mammals of bycatch incidental to fisheries that harvest the fish and fish products to be imported.

Timetable:

Action | Date | FR Cite
ANPRM | 04/30/10 | 75 FR 22731
Reopening ANPRM Comment Period | 07/01/10 | 75 FR 38070
NPRM | 08/11/15 | 80 FR 48171
NPRM Comment Period End | 11/09/15 |
Final Action | 08/15/16 | 81 FR 54389
Final Action Effective | 01/01/17 |

Regulatory Flexibility Analysis Required: Yes.

Agency Contact: John Henderschedt, Director, Office for International Affairs and Seafood Inspection, Department of Commerce, National Oceanic and Atmospheric Administration, 1315 East West Highway, Room 10362, Silver Spring, MD 20910, Phone: 301 427-8314, Email: john.henderschedt@noaa.gov.

RIN: 0648-AY15

227. Amendment 7 to the 2006 Consolidated Highly Migratory Species Fishery Management Plan

Legal Authority: 16 U.S.C. 1801 et seq.; 16 U.S.C. 971 et seq.

Abstract: Amendment 7 focused on bluefin tuna fishery management issues consistent with the need to end overfishing and rebuild the stock. Measures in Amendment 7 addressed several of the longstanding challenges facing the fishery and analyzed, among other things, revisiting quota allocations; reducing and accounting for dead discards; adding or modifying time/area closures or gear-restricted areas; and improving the reporting and monitoring of dead discards and landings in all categories.

Timetable:

Action | Date | FR Cite
Notice | 04/23/12 | 77 FR 24161
Notice | 06/08/12 | 77 FR 34025
NPRM | 08/21/13 | 78 FR 52032
NPRM Comment Period Extended | 09/18/13 | 78 FR 57340
Public Hearing | 11/05/13 | 78 FR 66327
NPRM Comment Period Reopened | 12/11/13 | 78 FR 75327
Public Hearing | 12/26/13 | 78 FR 78322
Final Rule | 12/02/14 | 79 FR 71509
Notice of Public Webinars | 12/16/14 | 79 FR 74652
Final Rule | 12/30/14 | 79 FR 78310
Final Rule | 02/04/15 | 80 FR 5991
Final Rule Effective | 02/04/15 |
Final Action—Notice | 05/07/15 | 80 FR 26196

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BC09

228. Amendment 28 to the Fishery Management Plan for the Reef Fish Resources of the Gulf of Mexico

Legal Authority: 16 U.S.C. 1801 et seq.

Abstract: The National Marine Fisheries Service implemented management measures as requested by the Gulf of Mexico Fishery Management Council in Amendment 28 to the Fishery Management Plan for the Reef Fish Resources of the Gulf of Mexico. The Council voted to reallocate the Gulf of Mexico 2016 and 2017 red snapper stock annual catch limit between the commercial and recreational sectors from 51:49 percent to 48.5:51.5 percent, respectively. As a result of the revised sector allocations finalized in Amendment 28, this rule revised the red snapper commercial and recreational quotas (which are equivalent to the annual catch limits) and the recreational annual catch targets. This rule also set the Federal charter vessel/headboat and private angling component quotas and annual catch targets based on the revised recreational sector's annual catch limit and annual catch target.

Timetable:

Action | Date | FR Cite
Notice | 12/24/15 | 80 FR 80310
NPRM | 01/25/16 | 81 FR 4010
NPRM Comment Period End | 03/10/16 |
Final Action | 04/28/16 | 81 FR 25575
Final Action Effective | 05/31/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD68

229. Amendment 35 to the Fishery Management Plan for the Snapper Grouper Fishery of the South Atlantic Region

Legal Authority: 16 U.S.C. 1801 et seq.

Abstract: Amendment 35 removed black snapper, dog snapper, mahogany snapper, and schoolmaster from the Fishery Management Plan for the Snapper-Grouper Fishery of the South Atlantic Region because these species have extremely low commercial landings in state and Federal waters. Almost all harvest (recreational and commercial) occurs in South Florida, and the Florida Fish and Wildlife Conservation Commission agreed that if the four species were removed from the Fishery Management Plan for the Snapper-Grouper Fishery of the South Atlantic Region they will extend state regulations for those species into Federal waters. Additionally, the South Atlantic Fishery Management Council (Council) desires consistent regulations for snapper-grouper species caught primarily in South Florida. Removing the four subject species established a consistent regulatory environment in Federal and state waters off southern Florida where they are most frequently encountered. Amendment 35 also clarified—in accordance with the Council's intent—regulations governing use of golden tilefish longline endorsements.

Timetable:

Action | Date | FR Cite
Notice | 02/05/16 | 81 FR 6222
NPRM | 03/04/16 | 81 FR 11502
NPRM Comment Period End | 04/04/16 |
Final Action | 05/23/16 | 81 FR 32249
Final Action Effective | 06/22/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BE70

230. Amendment 109 to the Fishery Management Plan for Groundfish of the BSAI To Facilitate Development of Groundfish Fisheries for Small Vessels in the Western Alaska Community Development Quota Program

Legal Authority: 16 U.S.C. 1801 et seq.

Abstract: This action amended the Fishery Management Plan for Groundfish of the Bering Sea and Aleutian Islands Management Area and revised regulations governing the groundfish and halibut fisheries managed under the Western Alaska Community Development Quota Program in order to support increased participation in the groundfish Community Development Quota fisheries (primarily Pacific cod) by catcher vessels less than or equal to 46 feet (14.0 m) length overall using hook-and-line gear. This action was necessary to promote the goals of the Community Development Quota Program, to increase participation by residents of Community Development Quota communities in the Bering Sea and Aleutian Islands Management Area groundfish and halibut fisheries, and to support economic development in western Alaska. This action benefited the six Community Development Quota groups and the operators of the small catcher vessels that the Community Development Quota groups authorize to fish on their behalf by reducing the costs of participating in the groundfish and halibut Community Development Quota fisheries.

Timetable:

Action | Date | FR Cite
Notice | 01/21/16 | 81 FR 3374
NPRM | 02/08/16 | 81 FR 6489
NPRM Comment Period End | 03/09/16 |
Final Action | 05/04/16 | 81 FR 26738
Final Action Effective | 06/03/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF05

231. Process for Divestiture of Excess Quota Shares

Legal Authority: 16 U.S.C. 1801 et seq.

Abstract: In January 2011, the National Marine Fisheries Service implemented the groundfish trawl rationalization program (a catch share program) for the Pacific coast groundfish limited entry trawl fishery. The program was implemented through Amendments 20 and 21 to the Pacific Coast Groundfish Fishery Management Plan and the corresponding implementing regulations. Amendment 20 established the trawl rationalization program, which includes an Individual Fishing Quota program for limited entry trawl participants, and Amendment 21 established fixed allocations for limited entry trawl participants, with limits on how much quota each participant can accumulate. Under previous regulations, quota share owners had to divest quota shareholdings that exceeded individual accumulation limits by November 30, 2015. This action made minor procedural modifications to the program regulations to clarify how divestiture of excess quota share could occur.

Timetable:

Action | Date | FR Cite
NPRM | 09/02/15 | 80 FR 53088
NPRM Comment Period End | 10/02/15 |
Final Action Effective | 11/04/15 |
Final Action | 11/09/15 | 80 FR 69138

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BF11

232. Implementation of Salmon Bycatch Management Measures for the Bering Sea Pollock Fishery

Legal Authority: 16 U.S.C. 1801 et seq.

Abstract: Regulatory Amendment 110 made substantive changes to the management of salmon bycatch in the Bering Sea pollock fishery to minimize salmon bycatch in the pollock fishery to the extent practicable. Currently, Chinook and chum salmon bycatch are managed under two different programs, which have led to inefficiencies and do not allow the pollock fishery the flexibility to modify their harvest patterns and practices to effectively minimize both Chinook and chum salmon bycatch. This regulation made salmon bycatch management more effective, comprehensive, and efficient by increasing flexibility to respond to changing conditions and providing greater incentives to reduce bycatch of both salmon species. This regulation provided the flexibility to harvest pollock in times and places that best achieve salmon avoidance and to adapt to changing conditions quickly.

Timetable:

Action | Date | FR Cite
Notice | 01/08/16 | 81 FR 897
NPRM | 02/03/16 | 81 FR 5681
NPRM Comment Period End | 03/04/16 |
Final Action | 06/10/16 | 81 FR 37534
Final Action Effective | 07/11/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF25

233. Cost Recovery Authorized Payment Methods

Legal Authority: 16 U.S.C. 1862; 16 U.S.C. 773 et seq.; Pub. L. 108-447; Pub. L. 109-241; Pub. L. 109-479; Pub. L. 111-281

Abstract: This rule amended authorized payment methods in existing cost recovery fee programs for the halibut, sablefish, and crab catch share programs. The Magnuson-Stevens Fishery Conservation and Management Act authorizes and requires the collection of cost recovery fees for fishery management programs that issue a permit allocating exclusive harvest privileges. Cost recovery fees recover the actual costs directly related to the management, data collection, and enforcement of the programs. Permit holders are required to submit cost recovery fee payments to the National Marine Fisheries Service annually. The National Marine Fisheries Service undertook a security review of the cost recovery fee payment process and developed the rule to improve security procedures for protecting sensitive financial information and to reduce costs associated with administering the cost recovery programs. The final rule eliminated manual processing of credit card information and required use of the Federal government's online payment system, pay.gov, for permit holders paying by credit card. The final rule also eliminated payments by paper check or money order and required the use of pay.gov beginning in 2020. The rule is expected to reduce the administrative costs of processing fee payments, and this reduction in costs would reduce the total amount of cost recovery fees collected from participants in the halibut, sablefish, and crab catch share programs.

Timetable:

Action | Date | FR Cite
NPRM | 12/31/15 | 80 FR 81798
NPRM Comment Period End | 02/01/16 |
Final Action | 04/22/16 | 81 FR 23645
Final Action Effective | 05/23/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF35

234. Amendment 102 to the Fishery Management Plan for Groundfish of the Gulf of Alaska

Legal Authority: 16 U.S.C 1801 et seq.

Abstract: This rule modified the basis for the National Marine Fisheries Service to place small catcher/processors in partial coverage in the North Pacific Groundfish and Halibut Observer Program (Observer Program). Under this action, the National Marine Fisheries Service classified a catcher/processor as small—and eligible for partial coverage—for one year based on whether the catcher/processor had an average weekly production less than a specified threshold. This action decreased the cost of observer coverage for catcher/processors that process small amounts of groundfish relative to the rest of the fleet. Approximately nine vessels could have been affected by this action and we expected all newly qualified vessels would choose to participate in partial coverage for the upcoming fishing year.

Timetable:

Action | Date | FR Cite
Notice | 12/17/15 | 80 FR 78705
NPRM | 12/29/15 | 80 FR 81262
Correction | 01/22/16 | 81 FR 3775
NPRM Comment Period End | 01/28/16 |
Final Action | 03/29/16 | 81 FR 17403
Final Action Effective | 03/29/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF36

235. 2016-2018 Specifications and Management Measures for the Atlantic Mackerel, Squid, and Butterfish Fishery Management Plan

Legal Authority: 16 U.S.C. 1801 et seq.

Abstract: This action established catch levels and associated management measures for the 2016-2018 fishing years for species managed under the Atlantic Mackerel, Squid, and Butterfish Fishery Management Plan. The final rule: Lowered the Atlantic mackerel quota by 56 percent to 9,177 metric tons (mt) for the next three years; lowered the cap on river herring and shad catch in the mackerel fishery from 89 mt to 82 mt for the next three years; increased the trigger for when 3-inch mesh is required for longfin squid-butterfish moratorium permits holders from 2,500 lb to 5,000 lb; clarified that 5-inch (square or diamond) or greater strengtheners may be used outside the 3-inch mesh to avoid breaking nets during large hauls; and suspended the pre-trip notification system requirement for longfin squid-butterfish moratorium permit holders.

Timetable:

Action | Date | FR Cite
NPRM | 01/22/16 | 81 FR 3768
NPRM Comment Period End | 02/22/16 |
Final Action | 04/26/16 | 81 FR 24504
Final Action Effective | 05/26/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF53

236. Framework Adjustment 27 to the Atlantic Sea Scallop Fishery Management Plan

Legal Authority: 16 U.S.C. 1801 et seq.

Abstract: The purpose of Framework 27 was to set management measures for the scallop fishery for the 2016 fishing year, including the annual catch limits and annual catch targets for the limited access and limited access general category fleets, as well as days-at-sea allocations and sea scallop access area trip allocations. Allocations were similar to or slightly higher than previous years. In addition, Framework 27 implemented additional measures to protect small scallops for future harvest.

Timetable:

Action | Date | FR Cite
NPRM | 02/24/16 | 81 FR 9151
NPRM Comment Period End | 03/25/16 |
Final Action | 05/04/16 | 81 FR 26727
Final Action Effective | 05/04/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF59

237. Revisions to the Pacific Halibut Catch Sharing Plan, Codified Regulations, and Annual Management Measures for 2016 and Beyond

Legal Authority: 16 U.S.C. 773 et seq.

Abstract: This action was the National Marine Fisheries Service's annual rulemaking regarding halibut fishing on the U.S. West Coast, implementing the Pacific Halibut Catch Sharing Plan (Plan). The Plan governs the allocation of the annual halibut quota for the West Coast fisheries, which is set by the International Pacific Halibut Commission and approved by NOAA Fisheries. For 2016 and beyond, the Pacific Fishery Management Council recommended several minor changes to the portion of the Plan covering sport fishery seasons and retention rules; and modifications to the processes for implementing inseason actions and sport fishery closures.

Timetable:

Action | Date | FR Cite
NPRM | 02/19/16 | 81 FR 8466
NPRM Comment Period End | 03/10/16 |
Final Action | 04/01/16 | 81 FR 18789
Final Action Effective | 04/01/16 |

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BF60

238. Regulatory Amendment 25 to the Fishery Management Plan for the Snapper-Grouper Fishery of the South Atlantic Region

Legal Authority: 16 U.S.C. 1801 et seq.

Abstract: This rule finalized management changes recommended by the South Atlantic Fishery Management Council to blueline tilefish, yellowtail snapper, and black sea bass in the South Atlantic Region. This rule increased the annual catch limit and optimum yield for blueline tilefish based on a new acceptable biological catch recommendation from the South Atlantic Council's Scientific and Statistical Committee. This action also finalized an increase to the current commercial trip limit and changed the recreational bag limit for blueline tilefish. The fishing year for yellowtail snapper was previously based on the calendar year. This rule implemented a summer/early fall start date of the fishing year to protect the yellowtail snapper stock during the spawning season and provide economic benefits for commercial fishermen. Lastly, this rule implemented an increase to the black sea bass recreational bag limit to increase the chance the recreational annual catch limit will be landed and ensure that optimum yield is being achieved.

Timetable:

Action | Date | FR Cite
NPRM | 06/01/16 | 81 FR 34944
NPRM Comment Period End | 06/16/16 |
Final Action | 07/13/16 | 81 FR 45245
Final Action Effective | 08/12/16 |

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov

RIN: 0648-BF61

239. Amendment 17A to the Fishery Management Plan for the Shrimp Fishery of the Gulf of Mexico, U.S. Waters

Legal Authority: 16 U.S.C. 1801 et seq.

Abstract: This rule implemented the Gulf of Mexico Fishery Management Council's decision to extend the Council-imposed moratorium on new federal commercial shrimp permits for 10 years. The moratorium began in 2006 and would have expired in 2016 if no action was taken. This action was necessary to protect federally managed Gulf of Mexico shrimp stocks while promoting catch efficiency, economic efficiency and stability.

Timetable:

Action | Date | FR Cite
Notice of Availability | 04/05/16 | 81 FR 19547
NPRM | 04/14/16 | 81 FR 22042
NPRM Comment Period End | 05/16/16 |
Final Action | 07/22/16 | 81 FR 47733
Final Action Effective | 07/22/16 |

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF77

240. Framework Adjustment 3 to the Northeast Skate Complex Fishery Management Plan

Legal Authority: 16 U.S.C. 1801 et seq.

Abstract: This action, developed by the New England Fishery Management Council, includes skate fishery specifications for the 2016-2017 fishing years, and a new seasonal quota allocation in the skate wing fishery. In summary, the Council proposes: An annual catch limit for skate of 31,081 metric tons, an overall total allowable landings of 12,590 metric tons, status quo possession limits for the skate wing and bait fisheries, the addition of a seasonal quota allocation, and the National Marine Fisheries Service authority to close the fishery in-season if the seasonal quota is reached.

Timetable:

Action | Date | FR Cite
NPRM | 06/06/16 | 81 FR 36251
NPRM Comment Period End | 06/21/16 |
Final Rule | 08/17/16 | 81 FR 54744
Final Rule Effective | 09/02/16 |
Final Action | 09/02/16 | 81 FR 60635
Final Action Effective | 09/02/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF87

241. 2016-2018 Spiny Dogfish Fishery Specifications

Legal Authority: 16 U.S.C. 1801 et seq.

Abstract: This action includes spiny dogfish fishery specifications for the 2016-2018 fishing years, as recommended by the Mid-Atlantic and New England Fishery Management Councils. In summary, the Councils implemented: Spiny dogfish annual catch limits of 51.9 million lb for 2016, 50.7 million lb for 2017, and 49.8 million lb for 2018 (decreases from 62.3 million lb in 2015); coastwide commercial quotas of 40.4 million lb for 2016, 39.1 million lb for 2017, and 38.2 million lb for 2018 (decreases from 50.6 million lb in 2015); and spiny dogfish trip limits of 5,000 lb (status quo).

Timetable:

Action | Date | FR Cite
NPRM | 06/22/16 | 81 FR 40650
NPRM Comment Period End | 07/07/16 |
Final Action | 08/15/16 | 81 FR 53958
Final Action Effective | 08/15/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF88

DEPARTMENT OF COMMERCE (DOC)

Patent and Trademark Office (PTO)

Proposed Rule Stage

242. Setting and Adjusting Patent Fees During Fiscal Year 2017

Legal Authority: Pub. L. 112-29

Abstract: The United States Patent and Trademark Office (Office) takes this action to set and adjust Patent fee amounts to provide the Office with a sufficient amount of aggregate revenue to recover its aggregate cost of operations while helping the Office maintain a sustainable funding model, reduce the current patent application backlog, decrease patent pendency, improve quality, and upgrade the Office's business information technology capability and infrastructure.

Timetable:

Action | Date | FR Cite
NPRM | 10/04/16 | 81 FR 68150
NPRM Comment Period End | 12/02/16 |
Final Rule | 04/00/17 |
Final Rule Effective | 06/00/17 |

Regulatory Flexibility Analysis Required: Yes.

Agency Contact: Brendan Hourigan, Director, Office of Planning and Budget, Department of Commerce, Patent and Trademark Office, P.O. Box 1450, Alexandria, VA 22313-1450, Phone: 571 272-8966, Fax: 571 273-8966, Email: brendan.hourigan@uspto.gov.

RIN: 0651-AD02

[FR Doc. 2016-29856 Filed 12-22-16; 8:45 am]

BILLING CODE 3510-12-P